INTERNATIONAL TRADE COMMISSION

[Investigation No. 337-TA-1231]

Certain Digital Imaging Devices and Products Containing the Same and Components Thereof; Notice of a Commission Determination Not To Review an Initial Determination Terminating the Investigation in Its Entirety Based on Settlement; Termination of Investigation

AGENCY: U.S. International Trade Commission.

ACTION: Notice.

SUMMARY: Notice is hereby given that the U.S. International Trade Commission (“Commission”) has determined not to review an initial determination (“ID”) (Order No. 23) of the presiding administrative law judge (“ALJ”), terminating the investigation in its entirety based on settlement. This investigation is terminated.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 1, 2020, based on a complaint filed on behalf of Pictos Technologies, Inc. of San Jose, California (“Pictos”). 85 FR 77238-39 (Dec. 1, 2020). The complaint, as amended, alleged violations of section 337 of the Tariff Act of 1930, as amended, 19 U.S.C. 1337, in the importation into the United States, the sale for importation, or the sale within the United States after importation of certain digital imaging devices and products containing the same and components thereof by reason of infringement of certain claims of U.S. Patent Nos. 7,800,145, 6,838,651, 7,323,671, and 7,064,768. Id. The amended complaint further alleged violations of section 337 based upon the importation into the United States, or in the sale of certain digital imaging devices and products containing the same and components thereof by reason of misappropriation of trade secrets. Id. The complaint also alleged that an industry in the United States exists as required by section 337. Id. The Commission's notice of investigation named as respondents Samsung Electronics Co., Ltd. of Republic of Korea; Samsung Electronics America, Inc. of Ridgefield Park, New Jersey; and Samsung Semiconductor, Inc. of San Jose, California (collectively, “Samsung”). Id. The Office of Unfair Import Investigations (“OUII”) is participating in the investigation. Id.

On June 21, 2021, Pictos and Samsung jointly moved pursuant to 19 CFR 210.21(a)(2) and (b) to terminate the investigation based on a settlement agreement (“the Agreement”). The motion attached public and confidential versions of the Agreement. On June 24, 2021, OUII filed a statement in support of the motion.

On July 16, 2021, the ALJ issued Order No. 23, the subject ID, which granted the motion. The ID found that the motion complied with the Commission's Rules and that there are no extraordinary circumstances that warrant denying the motion. The ID also found that there is no evidence indicating that terminating this investigation would be contrary to the public interest. No petitions for review of the ID were received.

The Commission has determined not to review the subject ID. The investigation is hereby terminated in its entirety.

The Commission vote for this determination took place on August 2, 2021.

The authority for the Commission's determination is contained in section 337 of the Tariff Act of 1930, as amended (19 U.S.C. 1337), and in Part 210 of the Commission's Rules of Practice and Procedure (19 CFR part 210).

By order of the Commission.
Issued: August 2, 2021.
Katherine Hiner,
Supervisory Attorney.

[FR Doc. 2021-16791 Filed 8-5-21; 8:45 am]

BILLING CODE 7020-02-P